DEPARTMENT OF HEALTH AND HUMAN SERVICES

Administration for Children and Families

Submission for OMB Review; Comment Request

Title: Compassion Capital Fund Impact Evaluation Process Study.

OMB No.: New Collection.

Description: The information collection activity proposed under this notice will obtain information about intermediary grantee agencies providing capacity building assistance to faith-based and community organizations under the Compassion Capital Fund (CCF) Demonstration program. The information gathered under this data collection activity will be used to describe the approach and methods used by intermediaries to provide the services that are being evaluated in the CCF impact evaluation. Information collection will be through informal discussions and observations on-site at the organizations, using uniform protocols.

Respondents: Directors and staff providing technical assistance and related services to faith-based and community organizations and directors and staff in faith-based and community organizations that have received capacity building assistance.

Annual Burden Estimates
Instrument | Number of respondents | Number of responses per respondent | Average burden hours per response | Total burden hours
Intermediary Protocol for Executive Director | 10 | 1 | 3 | 30
Intermediary Protocol for Key Staff | 30 | 1 | 1 | 30
Faith-based or Community Organization Protocol for Executive Director | 30 | 1 | 2 | 60
Faith-based or Community Organization Protocol for Key Staff | 60 | 1 | 1 | 60

Estimated Total Annual Burden Hours: 180.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for ACF.

Dated: December 18, 2007.
Brendan Kelly,
Reports Clearance Officer.

[FR Doc. 07-6158 Filed 12-21-07; 8:45 am]

BILLING CODE 4184-01-M